DEPARTMENT OF THE INTERIOR

National Park Service

[NPS-WASO-NAGPRA-22251; PPWOCRADN0-PCU00RP14.R50000]

Notice of Intent To Repatriate Cultural Items: Albion College, Albion, MI

AGENCY: National Park Service, Interior.

ACTION: Notice.

SUMMARY: Albion College, in consultation with the appropriate Indian tribes or Native Hawaiian organizations, has determined that the cultural items listed in this notice meet the definition of sacred objects. Lineal descendants or representatives of any Indian tribe or Native Hawaiian organization not identified in this notice that wish to claim these cultural items should submit a written request to Albion College. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Albion College at the address in this notice by December 9, 2016.

ADDRESSES: Bille Wickre, Department of Art and Art History, Albion College, 611 East Porter Street, Albion, MI 49224, telephone (517) 629-0246, email bwickre@albion.edu.

SUPPLEMENTARY INFORMATION: Notice is here given in accordance with the Native American Graves Protection and Repatriation Act (NAGPRA), 25 U.S.C. 3005, of the intent to repatriate cultural items under the control of Albion College, Albion, MI, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At an unknown date before 1973, one sacred object was removed from Zuni lands, most likely from a location in New Mexico. The sacred object is a cottonwood cylinder, 71 cm. long and 23.7 cm. in diameter. It is rounded at both ends and carved to resemble a human figure with a face, ears, hair and cap or helmet at one end and hands at the other end. There is a hole in the front center at a place where some scholars suggest is an umbilicus. The wood is significantly weathered and shows signs of aging. Based upon the form and condition, the object has been determined to be a Zuni Ahayu:da or war god.

In 1973, the sacred object (Ahayu:da) was donated by an individual to Albion College. There is no further information regarding its origin or date. After the donor's death in 1990, Bille Wickre contacted the donor's children and grandchildren in an effort to find out more about the Ahayu:da, but no one remembered anything about it. Once the Ahayu:da was discovered in the collection, Bille Wickre and students of Albion College undertook a research project to authenticate the object. Written and visual evidence suggested the object is an Ahayu:da. Wickre telephoned the Zuni Tribe of the Zuni Reservation, New Mexico, to initiate consultation. She spoke with Kurt Dongoske, RPA, Principal Investigator and Tribal Historic Preservation Officer. Zuni bow priests and tribal elders confirmed the authenticity of the object.

Determinations Made by Albion College

Officials of Albion College have determined that:

• Pursuant to 25 U.S.C. 3001(3)(C), one cultural item described above is a specific ceremonial object needed by traditional Native American religious leaders for the practice of traditional Native American religions by their present-day adherents.

• Pursuant to 25 U.S.C. 3001(2), there is a relationship of shared group identity that can be reasonably traced between the sacred object and the Zuni Tribe of the Zuni Reservation, New Mexico.

Additional Requestors and Disposition

Lineal descendants or representatives of any Indian tribe or Native Hawaiian organization not identified in this notice that wish to claim these cultural items should submit a written request with information in support of the claim to Bille Wickre, Department of Art and Art History, Albion College, 611 East Porter Street, Albion, MI 49224, telephone (517) 629-0246, email bwickre@albion.edu, by December 9, 2016. After that date, if no additional claimants have come forward, transfer of control of the sacred object to the Zuni Tribe of the Zuni Reservation, New Mexico, may proceed.

Albion College is responsible for notifying the Zuni Tribe of the Zuni Reservation, New Mexico, that this notice has been published.

Dated: October 24, 2016.
Melanie O'Brien,
Manager, National NAGPRA Program.

[FR Doc. 2016-26977 Filed 11-8-16; 8:45 am]

BILLING CODE 4312-52-P